DEPARTMENT OF COMMERCE

Foreign-Trade Zones Board

[Order No. 1266]

Expansion of Foreign-Trade Zone 12, McAllen, Texas

Pursuant to its authority under the Foreign-Trade Zones Act of June 18, 1934, as amended (19 U.S.C. 81a-81u), the Foreign-Trade Zones Board (the Board) adopts the following Order:

Whereas, the McAllen Economic Development Corporation, grantee of Foreign-Trade Zone 12, submitted an application to the Board for authority to expand FTZ 12-Site 1 to include two additional parcels (90 acres) at the McAllen Southwest Industrial Area in Hidalgo County, Texas, within the Hidalgo/Pharr Customs port of entry (FTZ Docket 27-2002; filed 6/11/02);

Whereas, notice inviting public comment was given in the Federal Register (67 FR 41394, 6/18/02) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 12-Site 1 is approved, subject to the Act and the Board's regulations, including Section 400.28.

Signed at Washington, DC, this 21st day of January 2003.
Faryar Shirzad,
Assistant Secretary of Commerce for Import Administration, Alternate Chairman, Foreign-Trade Zones Board.
Dennis Puccinelli,
Executive Secretary.

[FR Doc. 03-2442 Filed 1-31-03; 8:45 am]

BILLING CODE 3510-DS-P